DEPARTMENT OF DEFENSE

Department of the Army; United States Corps of Engineers

Notice of Intent To Prepare a Joint Environmental Impact Statement (EIS) for the Gateway Pacific Terminals Bulk Dry Goods Shipping Facility and the Custer Spur Rail Expansion Projects

AGENCY: Department of the Army (DA), U.S. Army Corps of Engineers (Corps), DoD.

ACTION: Notice of intent.

SUMMARY: The Corps, Seattle District, received permit applications for Pacific International Terminal, Inc.'s Gateway Pacific Terminal (GPT) and Burlington Northern Santa Fe (BNSF) Railway's Custer Spur Rail Expansion projects. DA permits are required for both projects pursuant to either Section 10 of the Rivers and Harbors Act of 1899 (33 United States Code (U.S.C.) 403) and/or Section 404 of the Clean Water Act (33 U.S.C. 1344). The Corps has determined the proposed projects are interrelated and may have significant individual and/or cumulative impacts on the human environment. An EIS will be prepared in accordance with the National Environmental Policy Act (NEPA) of 1969, as amended, 42 U.S.C. 4232(2)(c), and the Washington State Environmental Policy Act (SEPA). Preparation of the EIS will support the Corps' eventual decision to either issue, issue with modification or deny DA permits for the proposed actions. The EIS will assess the potential social, economic, and environmental impacts of the projects and is intended to be sufficient in scope to address Federal, State, and local requirements, environmental and socio-economic issues concerning the proposed action, and permit reviews. The EIS process begins with the publication of this Notice of Intent. The EIS will be prepared according to the Corps' procedures for implementing NEPA, 33 Code of Federal Regulations (CFR), Part 325, Appendix B, 53 Federal Regulations 3120 (February 3, 1988), and consistent with the Corps' policy to facilitate public understanding and review of agency proposals.

DATES: The scoping period will start on September 24, 2012. Written comments regarding the scope of the EIS—including the environmental analysis, range of alternatives, and potential mitigation actions—should be received at the address below or submitted by email to: comments@eisgatewaypacificwa.gov by January 21, 2013.

ADDRESSES: Written comments concerning the project and requests to be included on the EIS notification mailing list should be submitted to: Mr. Randel Perry, U.S. Army Corps of Engineers, Seattle District, Care of: GPT/BNSF Custer Spur EIS Co-Lead Agencies, 1100 112th Avenue Northeast, Suite 400, Bellevue, Washington 98004.

FOR FURTHER INFORMATION CONTACT: Mr. Randel Perry via email at: randel.j.perry@usace.army.mil, by regular mail at (see ADDRESSES), or at (360) 734-3156.

SUPPLEMENTARY INFORMATION: 1. Proposed Action. The construction of a new pier in marine waters and associated rail and cargo handling facilities in adjacent wetlands and uplands and the expansion of an existing rail spur line into wetlands and across streams. The Corps is preparing an EIS to analyze the potential social, economic, and environmental impacts associated with authorizing the actions.

2. Project Description. The project sites are located in Whatcom County, Washington, northwest of Ferndale and south of Birch Bay in an area called Cherry Point.

Pacific International Terminals, Inc., is proposing the GPT project to be developed on approximately 350 acres and would include a three-berth, deep-water wharf. The proposed wharf would be 3,000 feet long and 105 feet wide, with access to suitably deep water provided by an approximately 1,100 foot-long by 50 foot-wide trestle. Upland facilities will include open air and covered commodity storage, each serviced by an on-site rail loop. A system of conveyors would connect the commodity storage areas to the trestle and wharf. The upland facilities would also contain rail unloading facilities, roadways, service buildings, storm water treatment facilities, and utility infrastructure. Development of these facilities will result in impacts to approximately 145 acres of wetlands and numerous drainage features (ditches). Mitigation for proposed unavoidable impacts to waters of the U.S. will be required to comply with the Corps' 2008 mitigation rule (33 CFR 322.1). Commodities would be delivered to the GPT by rail via the existing BNSF Railway's Custer Spur line from the Bellingham subdivision main line. BNSF Railway is proposing to upgrade its existing Custer Spur line with additional tracks and sidings, which will impact approximately 17 acres of wetlands and involve modifications to two creek crossings and several ditches. Mitigation for proposed unavoidable impacts to waters of the U.S. will be required to comply with applicable Corps requirements.

3. Alternatives. The EIS will address an array of alternatives for providing facilities suitable for the shipping and receiving of dry bulk goods (grains, ore, coal, etc.) and for handling rail traffic to the new facility. Alternatives analyzed during the investigation may include but are not limited to no-action, alternative sites, alternative methods for shipping and handling bulk goods, alternative facility designs, and alternatives for the railroad spur upgrades. Mitigation measures may include but are not limited to avoidance of sensitive areas, creation or enhancement of marine macroalgae beds, and creation, restoration, or enhancement of wetlands.

4. Scoping Process. The scoping period will continue for 120 days after publication of this Notice of Intent and will close on January 21, 2013. During the scoping period, the Corps invites Federal agencies, State and local governments, Native American Tribes, and the public to participate in the scoping process either by providing written comments or by attending the public scoping meetings scheduled at the time and location indicated below. Written comments will be considered in the preparation of the Draft EIS. Comments postmarked or received by email after the specified date will be considered to the extent feasible.

The purpose of scoping is to assist the Corps in defining issues, public concerns, and alternatives and the depth to which they will be evaluated in the EIS. The Corps has prepared project information documents to familiarize agencies, Tribes, the public, and interested organizations with the proposed projects and potential environmental issues. Copies of the documents will be available at the public meeting and at the Web site www.eisgatewaypacificwa.gov or can be requested by contacting the Corps, Seattle District, as described above. Corps' representatives will answer scope-related questions and accept comments at public scoping meetings.

a. Public scoping meetings will be held to present an overview of the GPT and Custer Spur projects and to afford all parties an opportunity to provide comments regarding the range of actions, alternatives, and potential impacts. The public scoping meetings will be held as follows:

At Squalicum High School, 3773 East McLeod Road, Bellingham, Washington 98226-7728 on Saturday, October 27, 2012, from 11 a.m. to 3 p.m.

At Friday Harbor High School, 45 Blair Avenue, Friday Harbor, Washington 98250 on Saturday, November 3, 2012, from 12 a.m. to 3 p.m.

At McIntyre Hall, 2501 East College Way, Mount Vernon, Washington 98273 on Monday, November 5, 2012, from 4 p.m. to 7 p.m.

At North Seattle Community College, 9600 College Way North, Seattle, Washington 98103 on Tuesday, November 13, 2012, from 4 p.m. to 7 p.m.

At Ferndale Events Center, 5715 Barrett Road, Ferndale, Washington 98248 on Thursday, November 29, 2012, from 3 p.m. to 7 p.m.

At Spokane County Fairgrounds, 404 North Havana Street, Spokane Valley, Washington 99202 on Tuesday, December 4, 2012, from 4 p.m. to 7 p.m.

At Clark College, Graiser Student Center, 1933 Fort Vancouver Way, Vancouver, Washington 98663 on Wednesday, December 12, 2012, from 4 p.m. to 7 p.m.

During the scoping period, a continuous “on-line scoping meeting” will be hosted on the EIS Web site at www.eisgatewaypacificwa.gov.

b. Potentially significant issues to be analyzed in the EIS include but are not limited to project-specific and cumulative effects on navigation (e.g., vessel traffic and navigational safety); marine aquatic habitats, including State-designated aquatic reserves; marine aquatic species, including Endangered Species Act listed species and Washington State species of concern; Tribal treaty rights; wetland and riparian habitat and wildlife; railroad and vehicle traffic; cultural, historic, and archeological resources; air and water quality; noise; recreation; land use; and aesthetics.

c. The Corps will serve as the lead agency for compliance with NEPA, and Whatcom County Planning and Development Services (the County) and the Washington State Department of Ecology (Ecology) will serve as the lead agencies for compliance with SEPA. The U.S. Environmental Protection Agency and U.S. Coast Guard will serve as cooperating agencies under NEPA. The Corps will consult with the Washington State Historic Preservation Officer and applicable Tribes to comply with the National Historic Preservation Act; the U.S. Fish and Wildlife Service and National Marine Fisheries Service to comply with the Endangered Species Act; the National Marine Fisheries Service to comply with the Essential Fish Habitat provisions of the Magnuson-Stevens Fishery Conservation and Management Act; and applicable Tribes to comply with treaty provisions on fishing rights.

d. Development of the draft EIS will begin after the close of the scoping period. The draft EIS is currently scheduled to be available for public review and comment in January 2014.

e. A 120-day public review period will be provided for all interested parties, individuals, and agencies to review and comment on the draft EIS. All interested parties are encouraged to respond to this notice and provide a current address if they wish to be notified when the draft EIS is issued.

f. All comments received will become part of the administrative record and are subject to public release, as appropriate, in their entirety, including any personally identifiable information such as names, phone numbers, and addresses if included in the comment.

Dated: September 4, 2012.
Bruce A. Estok,
Colonel, Corps of Engineers, District Engineer.

[FR Doc. 2012-23301 Filed 9-20-12; 8:45 am]

BILLING CODE 3720-58-P